DEPARTMENT OF HEALTH AND HUMAN SERVICES

Centers for Disease Control and Prevention

[30Day-22-0978]

Agency Forms Undergoing Paperwork Reduction Act Review

In accordance with the Paperwork Reduction Act of 1995, the Centers for Disease Control and Prevention (CDC) has submitted the information collection request titled “Emerging Infections Program (EIP)” to the Office of Management and Budget (OMB) for review and approval. CDC previously published a “Proposed Data Collection Submitted for Public Comment and Recommendations” notice on January 31, 2022, to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Emerging Infections Program (OMB Control No. 0920-0978, Exp. 4/30/2022)—Revision—National Center for Emerging and Zoonotic Infectious Diseases (NCEZID), Centers for Disease Control and Prevention (CDC).

Background and Brief Description

The Emerging Infections Programs (EIPs) are population-based centers of excellence established through a network of state health departments collaborating with academic institutions; local health departments; public health and clinical laboratories; infection control professionals; and healthcare providers. EIPs assist in local, state, and national efforts to prevent, control, and monitor the public health impact of infectious diseases.

Activities of the EIPs fall into the following general categories: (1) Active surveillance; (2) applied public health epidemiologic and laboratory activities; (3) implementation and evaluation of pilot prevention/intervention projects; and (4) flexible response to public health emergencies. These activities are designed to: (1) Address issues that the EIP network is particularly suited to investigate; (2) maintain sufficient flexibility for emergency response and new problems as they arise; (3) develop and evaluate public health interventions to inform public health policy and treatment guidelines; (4) incorporate training as a key function; and (5) prioritize projects that lead directly to the prevention of disease.

A Revision is being submitted to make existing collection instruments clearer and to add several new forms specifically surveying laboratory practices. These forms will allow the EIP to better detect, identify, track changes in laboratory testing methodology, gather information about laboratory utilization in the EIP catchment area to ensure that all cases are being captured, and survey EIP staff to evaluate program quality.

Total estimated burden is 61,956 hours. There is no cost to respondents other than their time.

Estimated Annualized Burden Hours
Type of respondent | Form name | Number of respondents | Number of responses per respondent | Average burden per response (in hours)
State Health Department | ABCs Case Report Form | 10 | 809 | 20/60
| ABCs Invasive Pneumococcal Disease in Children and Adults Case Report Form | 10 | 127 | 10/60
| ABCs H.influenzae Neonatal Sepsis Expanded Surveillance Form | 10 | 6 | 10/60
| ABCs Severe GAS Infection Supplemental Form | 10 | 136 | 20/60
| ABCs Neonatal Infection Expanded Tracking Form | 10 | 37 | 20/60
| FoodNet Campylobacter | 10 | 970 | 21/60
| FoodNet Cyclospora | 10 | 42 | 10/60
| FoodNet Listeria monocytogenes | 10 | 16 | 20/60
| FoodNet Salmonella | 10 | 855 | 21/60
| FoodNet Shiga toxin producing E. coli | 10 | 290 | 20/60
| FoodNet Shigella | 10 | 234 | 10/60
| FoodNet Vibrio | 10 | 46 | 10/60
| FoodNet Yersinia | 10 | 55 | 10/60
| FoodNet Hemolytic Uremic Syndrome Case Report Form | 10 | 10 | 1
| FoodNet Clinical Laboratory Practices and Testing Volume | 10 | 70 | 20/60
| FluSurv-NET Influenza Hospitalization Surveillance Network Case Report Form | 10 | 764 | 25/60
| FluSurv-NET Influenza Hospitalization Surveillance Project Vaccination Phone Script Consent Form (English) | 10 | 333 | 5/60
| FluSurv-NET Influenza Hospitalization Surveillance Project Vaccination Phone Script (Spanish) | 10 | 333 | 5/60
| Influenza Hospitalization Surveillance Project Provider Vaccination History Fax Form (Children/Adults) | 10 | 333 | 5/60
| FluSurv-NET Laboratory Survey | 10 | 16 | 10/60
| HAIC—MuGSI Case Report Form for Carbapenem-resistant Enterobacteriaceae (CRE) and Acinetobacter baumannii (CRAB) | 10 | 500 | 28/60
| HAIC—MuGSI Extended-Spectrum Beta-Lactamase-Producing Enterobacteriaceae (ESBL/iEC) | 10 | 4200 | 25/60
| HAIC—Invasive Methicillin-resistant Staphylococcus aureus (MRSA) Infection Case Report Form | 10 | 340 | 28/60
| HAIC—Invasive Methicillin-sensitive Staphylococcus aureus (MSSA) Infection Case Report Form | 10 | 584 | 28/60
| HAIC—CDI Case Report and Treatment Form | 10 | 1650 | 38/60
| HAIC Candidemia Case Report | 10 | 200 | 30/60
| HAIC—Annual Survey of Laboratory Testing Practices for C. difficile Infections | 10 | 16 | 19/60
| HAIC—CDI Annual Surveillance Officers Survey | 10 | 1 | 15/60
| HAIC—Emerging Infections Program C. difficile Surveillance Nursing Home Telephone Survey (LTCF) | 10 | 45 | 5/60
| HAIC—Invasive Staphylococcus aureus Laboratory Survey | 10 | 11 | 20/60
| HAIC—Invasive Staphylococcus aureus Supplemental Surveillance Officers Survey | 10 | 1 | 10/60
| HAIC—Laboratory Testing Practices for Candidemia Questionnaire | 10 | 20 | 12/60
| HAIC MuGSI CA CP-CRE Health interview (new) | 100 | 10 | 30/60
| HAIC MuGSI Supplemental Surveillance Officer Survey (new) | 10 | 1 | 15/60
| HAIC Death Ascertainment Variables | 10 | 8 | 1440/60

Jeffrey M. Zirger,
Lead, Information Collection Review Office, Office of Scientific Integrity, Office of Science, Centers for Disease Control and Prevention.

[FR Doc. 2022-08704 Filed 4-22-22; 8:45 am]

BILLING CODE 4163-18-P